ENVIRONMENTAL PROTECTION AGENCY

40 CFR Part 52

[EPA-R04-OAR-2008-0036-200801(a); FRL-8551-9]

Approval and Promulgation of Implementation Plans; North Carolina: Approval of Revisions to the 1-Hour Ozone Maintenance Plan for the Raleigh/Durham and Greensboro/Winston-Salem/High Point Areas

AGENCY: Environmental Protection Agency (EPA).

ACTION: Direct final rule.

SUMMARY: EPA is taking direct final action to approve a February 4, 2008, revision to the State Implementation Plan (SIP) submitted by the North Carolina Department of Environment and Natural Resources (NCDENR) on behalf of the State of North Carolina for the purpose of revising the subarea motor vehicle emissions budgets (MVEBs) for the Greensboro/Winston-Salem/High Point area. The Greensboro/Winston-Salem/High Point 1-hour ozone maintenance area (hereafter referred to as the “Triad Area”) is comprised of Davidson, Forsyth, and Guilford Counties and a portion of Davie County. The revisions to the subarea MVEBs are approvable because of an available safety margin for volatile organic compounds (VOC) and nitrogen oxides (NOX) for this Area.

DATES: This direct final rule is effective June 9, 2008 without further notice, unless EPA receives adverse comments by May 8, 2008. If EPA receives such comments, it will publish a timely withdrawal of the direct final rule in the Federal Register and inform the public that the rule will not take effect.

ADDRESSES: Submit your comments, identified by Docket ID No. EPA-R04-OAR-2008-0036, by one of the following methods:

1. http://www.regulations.gov: Follow the on-line instructions for submitting comments.

(a) E-mail: ward.nacosta@epa.gov or wood.amanetta@epa.gov.

(b) Fax: (404) 562-9019.

2. Mail: EPA-R04-OAR-2008-0036, Regulatory Development Section, Air Planning Branch, Air, Pesticides and Toxics Management Division, U.S. Environmental Protection Agency, Region 4, 61 Forsyth Street, SW., Atlanta, Georgia 30303-8960.

3. Hand Delivery or Courier: Nacosta C. Ward, Regulatory Development Section, or Amanetta Wood, Air Quality Modeling Transportation Section, of the Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Instructions: Direct your comments to Docket ID No. EPA-R04-OAR-2008-0036. EPA's policy is that all comments received will be included in the public docket without change and may be made available online at http://www.regulations.gov, including any personal information provided, unless the comment includes information claimed to be Confidential Business Information (CBI) or other information whose disclosure is restricted by statute. Do not submit through http://www.regulations.gov or e-mail information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding federal holidays.

FOR FURTHER INFORMATION CONTACT: Ms. Nacosta C. Ward of the Regulatory Development Section, or Ms. Amanetta Wood, Air Quality Modeling Transportation Section, in the Air Planning Branch, Air, Pesticides and Toxics Management Division, U.S. Environmental Protection Agency, Region 4, 61 Forsyth Street, SW., Atlanta, Georgia 30303-8960. The telephone numbers are (404) 562-9140 and (404) 562-9025 respectively. Ms. Nacosta Ward can be reached via electronic mail at ward.nacosta@epa.gov. Ms. Amanetta Wood can be reached via electronic mail at wood.amanetta@epa.gov.

SUPPLEMENTARY INFORMATION:

Table of Contents

I. What Action Is EPA Taking?

II. What Is the Background for EPA's Action?

III. What Is the Effect of This Action?

IV. What Is EPA's Analysis of North Carolina's Subarea VOC and NOX for the Triad Area?

V. Final Action

VI. Statutory and Executive Order Reviews

I. What Action is EPA Taking?

EPA is taking direct final action to approve North Carolina's SIP revision submitted on February 4, 2008, which includes revisions to the subarea ¹ 2010, 2012, and 2015 MVEBs for VOC and NOX for the Triad Area because it meets all requirements of section 110 of the Clean Air Act (“CAA” or “Act”). These new MVEBs revise those established in a September 20, 2004 (69 FR 56163) direct final rulemaking entitled “Approval and Promulgation of Implementation of Plans; North Carolina: Raleigh/Durham Area and Greensboro/Winston-Salem/High Point Area Maintenance Plan Updates.” The revised subarea MVEBs are in the below tables:

¹ The term “subarea” refers to the portion of the area, in a nonattainment or maintenance area, for which the MVEBs apply. In this case, the “subareas” are established at the county level so this indicates that the MVEBs cover individual counties and also indicates to transportation conformity implementers in this area that there are separate county-level MVEBs for each county in this area. EPA's Companion Guidance for the July 1, 2004, Final Transportation Conformity Implementation in Multi-Jurisdictional Nonattainment and Maintenance Areas for Existing and New Air Quality Standards explains more about the possible geographical extents of a MVEB, how these geographical areas are defined, and how transportation conformity is implemented in these different geographical areas.

Table 1.—Davidson County MVEBs
[Tons/day]
| Revised subarea MVEBs: 2010 | Revised subarea MVEBs: 2012 | Revised subarea MVEBs: 2015
VOC | 4.91 | 4.50 | 4.12
NOX | 8.09 | 6.83 | 5.15

Table 2.—Davie* County MVEBs
[Tons/day]
| Revised subarea MVEBs: 2010 | Revised subarea MVEBs: 2012 | Revised subarea MVEBs: 2015
VOC | 0.03 | 0.03 | 0.03
NOX | 0.05 | 0.05 | 0.05
* The Davie County MVEBs are for the portion of Davie County in the maintenance area.

Table 3.—Forsyth County MVEBs
[Tons/day]
| Revised subarea MVEBs: 2010 | Revised subarea MVEBs: 2012 | Revised subarea MVEBs: 2015
VOC | 10.31 | 9.36 | 8.50
NOX | 15.04 | 12.72 | 9.59

Table 4.—Guilford County MVEBs
[Tons/day]
| Revised subarea MVEBs: 2010 | Revised subarea MVEBs: 2012 | Revised subarea MVEBs: 2015
VOC | 14.86 | 13.46 | 12.17
NOX | 20.87 | 17.66 | 13.28

This direct final rulemaking is in response to North Carolina's February 4, 2008, SIP submittal which supersedes North Carolina's December 20, 2007, submittal that included a request for parallel processing.

II. What Is the Background for EPA's Action?

Under the CAA, states are required to submit, at various times, control strategy SIPs and maintenance plans for ozone attainment areas. These control strategy SIPs (reasonable further progress and attainment demonstration, etc.) and maintenance plans establish MVEBs for criteria pollutants and/or their precursors to address pollution from cars and trucks. Pursuant to 40 CFR part 93, an MVEB is established for the last year of the maintenance plan. A state may adopt MVEBs for other years as well. States also have the option to revise MVEBs at any time through a SIP revision. The MVEB is the portion of the total allowable emissions in the maintenance demonstration that is allocated to highway and transit vehicle use and emissions. See, 40 CFR 93.101. The MVEB serves as a ceiling on emissions from an area's planned transportation system. The MVEB concept is further explained in the preamble to the November 24, 1993, transportation conformity rule (58 FR 62188). The preamble also describes how to establish the MVEB in the SIP and how to revise the MVEB.

The Triad Area was designated as a nonattainment area for the 1-hour ozone national ambient air quality standard (“NAAQS” or “standard”) on November 6, 1991 (56 FR 56694). In 1993, after the area had three consecutive years, 1990-1992, of air quality data showing attainment of the standard, the State of North Carolina, through NCDENR, submitted a redesignation request and a maintenance plan for the Triad Area for the 1-hour ozone NAAQS. On September 9, 1993, EPA redesignated the Triad Area to attainment for the 1-hour ozone NAAQS and approved the 1-hour ozone maintenance plan (58 FR 47391).

Consistent with the CAA, ozone reductions are achieved by establishing NAAQS, such as the 1-hour and subsequent 8-hour ozone standard, and implementing the measures necessary to reduce ozone and its precursors. In the April 30, 2004, rulemaking entitled “Air Quality Designations and Classifications for the 8-Hour Ozone National Ambient Air Quality Standards; Early Action Compact Areas with Deferred Effective Dates” (69 FR 23858), EPA designated every county in the United States unclassifiable/attainment or nonattainment for the new 8-hour ozone standard. The Triad Area was designated as nonattainment with a deferred effective date as part of the Early Action Compact program. (For more information on the Early Action Compact—or EAC—Program, see, http://www.epa.gov/ttn/naaqs/ozone/eac/index.htm#RMNotices.) One year after the effective date of these designations, June 15, 2005, the 1-hour ozone standard was revoked in most areas. However, the 1-hour ozone standard was not revoked for previous 1-hour nonattainment areas that are currently 8-hour EAC areas, such as the Triad Area, even if those areas were designated as attainment for the 1-hour ozone standard prior to the 8-hour ozone designations.²

² An EAC is an agreement between a State, local governments and EPA to implement measures not necessarily required by the Act in order to achieve cleaner air as soon as possible. The program was designed for areas that approach or monitor exceedances of the 8-hour ozone standard, but are in attainment for the 1-hour ozone standard. These areas continue to implement transportation conformity requirements related to the 1-hour ozone standard. See, http://www.epa.gov/ttn/naaqs/ozone/eac/index.htm#RMNotices, for further information.

Currently, the Triad EAC Area is attaining the 8-hour ozone standard with a design value of 0.083 parts per million (ppm) using the latest three years of quality assured data for the years of 2005-2007. On February 6, 2008 (73 FR 6863), EPA proposed that 13 nonattainment areas, including the Triad Area, with deferred effective dates be designated attainment for the 8-hour ozone standard, because they have met all of the milestones of the EAC program and have demonstrated that they were in attainment of the 8-hour ozone NAAQS as of December 31, 2007. A final decision will be made on designations by April 15, 2008. EPA also proposed that one year after the effective date of these designations, the 1-hour ozone standard be revoked and the transportation conformity requirements no longer remain in effect.

On June 4, 2004, NCDENR submitted revisions to North Carolina's SIP to provide a 10-year update to the Triad Area's 1-hour ozone maintenance plan as required by section 175A(b) of the CAA. In addition to meeting the requirements of 175A(b), the revisions established subarea MVEBs for the Triad Area for the years 2004, 2007, 2010, 2012, and 2015. Some of these subarea MVEBs are currently being used by the transportation partners to demonstrate conformity, as approved in the September 20, 2004, rulemaking. The subarea MVEBs that are currently being used by transportation partners in the Triad Area are noted in the tables below:

Table 5.—Davidson County MVEBs
[Tons/day]
| Current subarea MVEBs: 2010 | Current subarea MVEBs: 2012 | Current subarea MVEBs: 2015
VOC | 4.73 | 4.38 | 3.94
NOX | 7.79 | 6.36 | 4.72

Table 6.—Davie * County MVEBs
[Tons/day]
| Current subarea MVEBs: 2010 | Current subarea MVEBs: 2012 | Current subarea MVEBs: 2015
VOC | 0.01 | 0.01 | 0.01
NOX | 0.02 | 0.02 | 0.01
* The Davie County MVEBs are for the portion of Davie County in the maintenance area.

Table 7.—Forsyth County MVEBs
[Tons/day]
| Current subarea MVEBs: 2010 | Current subarea MVEBs: 2012 | Current subarea MVEBs: 2015
VOC | 9.93 | 9.12 | 8.14
NOX | 14.49 | 11.83 | 8.79

Table 8.—Guilford County MVEBs
[Tons/day]
| Current subarea MVEBs: 2010 | Current subarea MVEBs: 2012 | Current subarea MVEBs: 2015
VOC | 14.32 | 13.10 | 11.66
NOX | 20.11 | 16.44 | 12.18

The tables above showing the currently approved subarea MVEBs for the Triad Area reflect the total on-road emissions for 2010, 2012 and 2015, plus an allocation from the available VOC and NOX safety margins for each year. Pursuant to 40 CFR 93.101, the term “safety margin” is the difference between the attainment level (from all sources) and the projected level of emissions (from all sources) in the maintenance area. The safety margin can be allocated to the transportation sector; however, the total emissions must remain below the attainment level. These subarea MVEBs and the allocations from the safety margin were developed in consultation with the transportation partners and were added to account for uncertainties in population growth, changes in model vehicle miles traveled and new emission factor models. The allocated portion of the safety margins for the Triad Area that was approved in the September 20, 2004, rulemaking are as follows:

Table 9.—Safety Margins for the Triad Area
[Tons/day]
County | Safety margin allocations for VOC and NOX | Safety margin allocations for VOC and NOX: 2010 | Safety margin allocations for VOC and NOX: 2012 | Safety margin allocations for VOC and NOX: 2015
Davidson | VOC | 0.27 | 0.47 | 0.51
| NOX | 0.44 | 0.42 | 0.43
Davie | VOC | 0.00 | 0.00 | 0.00
| NOX | 0.00 | 0.00 | 0.00
Forsyth | VOC | 0.56 | 0.98 | 1.06
| NOX | 0.82 | 0.77 | 0.80
Guilford | VOC | 0.81 | 1.40 | 1.52
| NOX | 1.14 | 1.08 | 1.11

The total remaining VOC safety margins after allocating a portion of the safety margin to the subarea MVEBs for the Triad Area are 26.59 tons per day (tpd) in 2010, 26.41 tpd in 2012, and 25.50 tpd in 2015. The total remaining NOX safety margins after allocating a portion of the safety margin to the subarea MVEBs for the Triad Area is 58.61 tpd in 2010, 66.09 tpd in 2012, and 74.21 tpd in 2015. For more information on the total remaining safety margins, see the September 20, 2004, direct final rulemaking.

On February 4, 2008, the State of North Carolina, through NCDENR, submitted a request to revise the subarea MVEBs for the Triad 1-hour ozone maintenance area for the years 2010, 2012, and 2015. The new allocation of the safety margins to the subarea MVEBs is discussed in section IV of this direct final rulemaking.

Through the Triad Area's Interagency Consultation Group, which includes the North Carolina transportation and air quality partners, NCDENR identified a need for revised subarea MVEBs to allow for growth in the transportation sector. NCDENR, a partner of the Interagency Consultation Group, evaluated the option of revising the subarea MVEBs for the Triad Area and prepared a February 4, 2008, SIP revision to effectuate that option. The February 4, 2008, SIP revision was submitted to EPA for approval and requested a change to the subarea MVEBs by allocating a portion of the available safety margins to the subarea MVEBs. This allocation is discussed further in section of IV of this direct final rulemaking.

III. What Is the Effect of This Action?

The subarea MVEBs for the Triad Area are established for each metropolitan planning organization (MPO), and in some instances, counties that are “donut areas.” The conformity rule defines a donut area as the portion of a metropolitan nonattainment or maintenance area that is located outside an MPO's planning boundary (40 CFR 93.101). Donut areas are not considered isolated rural nonattainment and maintenance areas under the transportation conformity rule.

The transportation conformity rule, specifically, 40 CFR 93.124(c) and (d), provide the regulatory mechanism for establishing and implementing subarea SIP MVEBs. In July 2004, EPA released a guidance document that provided additional details for implementing conformity in multi-jurisdictional areas, including establishing subarea SIP MVEBs in areas with multiple MPOs, entitled “Companion Guidance for the July 1, 2004 Final Transportation Conformity Rule Conformity Implementation in Multi-Jurisdictional Nonattainment and Maintenance Areas for Existing and New Air Quality Standards,” EPA 420A-B-04-012 (2004 Guidance). Although this guidance did not address the situation where subarea MVEBs are established for a donut area, such MVEBs may be established in a manner consistent with the requirements of the CAA that ensures that conformity determinations in the Triad Area will continue to meet federal conformity requirements.

Statutory and regulatory requirements regarding conformity may be met for the entire nonattainment or maintenance area if conformity is determined for every subarea SIP MVEBs at least every four years. Only by meeting all subarea SIP MVEBs can the SIP's overall purpose be met. CAA section 176(c) states that the federal government and MPOs cannot approve transportation activities unless they conform to the SIP and its SIP-approved MVEBs. See also, page 21 of the 2004 Guidance. In a nonattainment or maintenance area with more than one MPO, all MPOs must conform even if the SIP has established subarea MVEBs. EPA believes that this same legal standard applies in the case where the SIP establishes a subarea MVEBs for a donut area.

With regard to the February 4, 2008, revisions to the Triad 1-hour ozone maintenance area subarea MVEBs have been established for the Area's MPOs and donut areas. As a result, conformity determinations must be completed for all subarea MVEBs according to the statutory requirement to determine conformity at least every four years in areas with MPOs, transportation plans, and Transportation Improvement Programs (TIPs). MPOs must determine conformity to their respective transportation plans and TIPs every four years, and the interagency consultation process for the Triad Area should ensure that conformity is demonstrated for any subarea MVEBs for a donut area at least every four years as well. In the event that an MPO or donut area cannot demonstrate conformity on a four-year cycle, the other subareas cannot complete a conformity determination until all subareas conform. For further information regarding the conformity implications of not meeting subarea MVEBs, see pages 20-21 of the 2004 Guidance. The effect of this action will make new subarea MVEBs available to transportation partners in North Carolina.

IV. What Is EPA's Analysis of North Carolina's Subarea VOC and NOX for the Triad Area?

In a June 4, 2004, SIP submittal, NCDENR, after interagency consultation with the transportation partners for the Triad Area, elected to develop county-level subarea MVEBs for VOC and NOX. In addition to other years, North Carolina developed these MVEBs, for the years 2010, 2012, and 2015 of its maintenance plan. The aforementioned MVEBs reflect the total on-road emissions for 2010, 2012 and 2015, plus an allocation from the available VOC and NOX safety margins for each year. Refer to the section II entitled “What is the Background for EPA's Proposed Actions?” of this rulemaking for further explanation of the safety margin. These MVEBs were approved into the SIP in the September 20, 2004, direct final rulemaking. On February 4, 2008, NCDENR submitted a SIP revision seeking to change the MVEBs that were approved in the September 20, 2004, SIP revision. The February 4, 2008, change is consistent with the CAA. The revised subarea VOC and NOX MVEBs for the Triad Area are defined in the revised MVEBs tables, Tables 1 through 4, in section I of this direct final rulemaking.

North Carolina has chosen to allocate a portion of the available safety margin to the 2010, 2012 and 2015 subarea VOC and NOX MVEBs. The following table identifies the amount of the safety margin that was allotted to the 2010, 2012 and 2015 VOC and NOX subarea MVEBs per the February 4, 2008, submittal:

Table 10.—Revised Safety Margin Allocations for VOC and NOX
[Tons/day]
County | Revised safety margin allocations for VOC and NOX | Revised safety margin allocations for VOC and NOX: 2010 | Revised safety margin allocations for VOC and NOX: 2012 | Revised safety margin allocations for VOC and NOX: 2015
Davidson | VOC | 0.45 | 0.59 | 0.69
| NOX | 0.74 | 0.89 | 0.86
Davie | VOC | 0.02 | 0.02 | 0.02
| NOX | 0.03 | 0.03 | 0.04
Forsyth | VOC | 0.94 | 1.22 | 1.42
| NOX | 1.37 | 1.66 | 1.60
Guilford | VOC | 1.35 | 1.76 | 2.03
| NOX | 1.90 | 2.30 | 2.21

The total remaining VOC safety margin after allocation of some of the safety margin to the subarea MVEBs for the Triad Area is 25.47 tpd in 2010, 25.67 tpd in 2012, and 24.43 tpd in 2015. The total remaining NOX safety margin after allocation of some of the safety margin to the subarea MVEBs for the Triad Area is 56.97 tpd in 2010, 63.48 tpd in 2012, and 71.84 tpd in 2015.

Through this rulemaking, EPA is approving the revised 2010, 2012 and 2015 subarea MVEBs for VOC and NOX for the Triad Area because EPA has determined that the Area maintains the 1-hour ozone standard with the emissions at the levels of the MVEBs and demonstrates that based upon expected emissions for all other source categories, the Triad Area will continue to maintain the 1-hour ozone standard.

As mentioned above, these MVEBs are subarea MVEBs for each individual county in the Triad Area. Once the new subarea MVEBs for the Triad Area (the subject of this rulemaking) are approved they must be used for future conformity determinations.

V. Final Action

EPA is approving revisions to the 1-hour ozone maintenance plan for the Triad Area submitted by NCDENR on February 4, 2008. Tables 1-4, above, list the new MVEBs for VOC and NOX being approved in this action. Table 10, above, lists the new available safety margins being approved in this action. The safety margin was reallocated as described in section IV of this action.

Within 24 months from the effective date of this direct final rule or the date of publication for the final rule for this action, the transportation partners will need to demonstrate conformity to the new subarea MVEBs pursuant to 40 CFR 93.104(e). See, 73 FR 4419 (January 24, 2008).

EPA is publishing this rule without prior proposal because the Agency views this as a noncontroversial submittal and anticipates no adverse comments. However, in the proposed rules section of this Federal Register publication, EPA is publishing a separate document that will serve as the proposal to approve the SIP revision should adverse comments be filed. This rule will be effective June 9, 2008 without further notice unless the Agency receives adverse comments by May 8, 2008.

If EPA receives such comments, then EPA will publish a document withdrawing the final rule and informing the public that the rule will not take effect. All public comments received will then be addressed in a subsequent final rule based on the proposed rule. EPA will not institute a second comment period. Parties interested in commenting should do so at this time. If no such comments are received, the public is advised that this rule will be effective on June 9, 2008 and no further action will be taken on the proposed rule.

VI. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045 “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by June 9, 2008. Filing a petition for reconsideration by the Administrator of this final rule does not affect the finality of this rule for the purposes of judicial review nor does it extend the time within which a petition for judicial review may be filed, and shall not postpone the effectiveness of such rule or action. This action may not be challenged later in proceedings to enforce its requirements. (See, section 307(b)(2).)

List of Subjects in 40 CFR Part 52

Environmental protection, Air pollution control, Intergovernmental relations, Incorporation by reference, Nitrogen dioxide, Ozone, Reporting and recordkeeping requirements, Volatile organic compounds.

Dated: March 27, 2008.
J.I. Palmer, Jr.,
Regional Administrator, Region 4.

40 CFR part 52 is amended as follows:

PART 52—[AMENDED]

1. The authority citation for part 52 continues to read as follows:

Authority: 42 U.S.C. 7401 et seq.

Subpart II—North Carolina

2. Section 52.1770 (e) is amended by adding a new entry at the end of the table for “1-Hour Ozone Maintenance plan revision for the Greensboro/Winston-Salem/High Point area” to read as follows:

§ 52.1770 Identification of plan.

* * * * *

(e) * * *

EPA-Approved North Carolina Non-Regulatory Provisions
Provision | State effective date | EPA approval date | Federal Register citation
* * * * * * *
1-Hour Ozone Maintenance plan revision for the Greensboro/Winston-Salem/High Point area (Davidson, Forsyth, and Guilford counties and a portion of Davie County) | February 4, 2008 | April 8, 2008 | [Insert first page of publication].

[FR Doc. E8-7186 Filed 4-7-08; 8:45 am]

BILLING CODE 6560-50-P